DEPARTMENT OF HOMELAND SECURITY

Federal Emergency Management Agency

[Docket ID FEMA-2008-0009]

National Disaster Housing Strategy

AGENCY: Federal Emergency Management Agency, DHS.

ACTION: Notice of availability.

SUMMARY: This document provides notice of the availability of the final National Disaster Housing Strategy (NDHS) which finalizes the draft version of the NDHS which the Federal Emergency Management Agency (FEMA) published for public comment in July 2008. The NDHS is intended to serve two purposes. It describes how we as a Nation currently provide housing to those affected by disasters, and it charts the new direction that our disaster housing efforts must take if we are to better meet the emergent needs of disaster victims and communities.

DATES: The NDHS is effective January 16, 2009.

ADDRESSES: The NDHS is available online at http://www.regulations.gov and on FEMA's Web site at http://www.fema.gov/news/newsrelease.fema?id=47305. The draft and final NDHS, all related Federal Register Notices, and all public comments received during the comment period are available at http://www.regulations.gov under Docket ID FEMA-2008-0009. You may also view a hard copy of the NDHS at the Office of Chief Counsel, Federal Emergency Management Agency, Room 835, 500 C Street, SW., Washington, DC 20472.

FOR FURTHER INFORMATION CONTACT: Jack Schuback, Federal Emergency Management Agency, 500 C Street SW., Washington, DC 20472, (215) 931-5624.

SUPPLEMENTARY INFORMATION: The NDHS serves as a guide to how the Nation currently provides housing after a disaster, and sets a course for improving the methods in which we can provide housing to meet the emergent needs of disaster victims and communities. As requested by Congress in Section 683 of the Post-Katrina Emergency Management Reform Act of 2006, Public Law 109-295, the NDHS is intended to begin a long-term effort to build on current strengths and encourage all involved to work collaboratively and seek innovative housing solutions. It intends to establish a strong foundation based on clear roles and responsibilities, key principles to guide national efforts, a joint planning process to build baseline capabilities, and additional resources to better prepare for an impending or emergent event.

The NDHS promotes a national housing effort that engages all levels of government and the private sector to collectively meet the urgent housing needs of disaster victims and to enable individuals, households and communities to rebuild and restore their way of life following a disaster. A key concept introduced in the NDHS is the National Disaster Housing Task Force to bring together experts and policymakers whose efforts would be dedicated exclusively to the disaster housing issue. The NDHS draws on best practices and lessons learned over the years to identify actions that can be taken to improve disaster housing assistance. This effort began with realigning roles and responsibilities, renewing our focus on planning, building baseline capabilities, and providing a broader range of flexible disaster housing options. The NDHS outlines a vision, supported by specific goals, that will point the Nation in a new direction to meet the disaster housing needs of individuals and communities going forward.

FEMA received numerous comments on the draft NDHS, which FEMA published for public comment in July 2008. The final version reflects many changes made as a result of those comments.

Authority: 6 U.S.C. 772; 42 U.S.C. 5121-5207.

Robert Farmer,
Acting Director, Office of Policy & Program Analysis, Federal Emergency Management Agency.

[FR Doc. E9-16769 Filed 7-15-09; 8:45 am]

BILLING CODE 9111-23-P